DEPARTMENT OF THE INTERIOR

Bureau of Land Management

[LLCO956000.L14200000 BJ0000]

Notice of Filing of Plats

AGENCY: Bureau of Land Management, Interior.

ACTION: Notice of Filing of Plats; Colorado.

SUMMARY: The Bureau of Land Management (BLM) Colorado State Office is publishing this notice to inform the public of the filing of the land survey plats listed below.

DATES: The plats described in this notice were filed on March 12, 2012.

ADDRESSES: BLM Colorado State Office, Cadastral Survey, 2850 Youngfield Street, Lakewood, Colorado 80215-7093.

FOR FURTHER INFORMATION CONTACT: Randy Bloom, Chief Cadastral Surveyor for Colorado, (303) 239-3856.

SUPPLEMENTARY INFORMATION: The supplemental plat of Sections 32 and 33, in Township 12 South, Range 90 West, Sixth Principal Meridian, Colorado, was accepted and filed on March 12, 2012.

The supplemental plat of Section 5, in Township 13 South, Range 90 West, Sixth Principal Meridian, Colorado, was accepted and filed on March 12, 2012.

Randy Bloom,
Chief Cadastral Surveyor for Colorado.

[FR Doc. 2012-7143 Filed 3-23-12; 8:45 am]

BILLING CODE 4310-JB-P